DEPARTMENT OF THE INTERIOR

Bureau of Land Management

[CO-134-1610-DQ-CCCA]

Notice of Availability of Record of Decision for the Colorado Canyons National Conservation Area Resource Management Plan/Environmental Impact Statement

AGENCY: Bureau of Land Management, Interior.

ACTION: Notice of availability.

SUMMARY: In accordance with the National Environmental Policy Act (NEPA), the Federal Land Policy and Management Act (FLPMA), and the Bureau of Land Management (BLM) management policies, the Colorado Canyons National Conservation Area and Black Ridge Canyons Wilderness Act of 2000, the BLM announces the availability of the Resource Management Plan (RMP)/Record of Decision (ROD) for the Colorado Canyons National Conservation Area (NCA). The NCA is located in Mesa County, CO and Grand County, UT. The Colorado State Director will sign the RMP/ROD, which becomes effective immediately.

ADDRESSES: Copies of the NCA RMP/ROD are available upon request from the Colorado Canyons National Conservation Area Manager, Grand Junction Field Office, Bureau of Land Management, 2815 H Road, Grand Junction, CO 81506; or via the Internet at http://www.co.blm.gov/cocanplan/. Copies may be obtained by contacting Jane Ross, Grand Junction Field Office at (970) 244-3027. Copies are also available at the following Mesa County Public Library District locations during regular business hours: Central Library, 530 Grand Avenue, Grand Junction, CO 81501; Fruita Branch, 325 East Aspen Avenue, Fruita, CO 81521; Palisade Branch, 711 Iowa Street, Palisade, CO 81526; Clifton Branch, Peachtree Shopping Center, 3225 I-70 Business Loop A-1, Clifton, CO 81520; Orchard Mesa Branch, 2736 Unaweep Avenue, Grand Junction, CO 81503.

The planning documents are available for inspection at the BLM Grand Junction Field Office during normal working hours, 7:30 a.m. through 4:30 p.m.

FOR FURTHER INFORMATION CONTACT: For further information or to have your name added to our mailing list, contact Jane Ross (970) 244-3027, Planning and Environmental Coordinator (jane_ross@co.blm.gov), or Raul Morales at (970) 244-3066 (raul_morales@co.blm.gov), acting Colorado Canyons NCA Manager, Bureau of Land Management, Grand Junction Field Office, 2815 H Road, Grand Junction, CO 81506.

SUPPLEMENTARY INFORMATION: The Colorado Canyons NCA RMP/ROD was developed with broad public participation through a two-year collaborative planning process. The CCNCA, located west of Grand Junction, includes 122,300 rugged acres of sandstone canyons, natural arches, spires, and alcoves carved into the Colorado Plateau along a 24-mile stretch of the Colorado River. Included in the CCNCA are 75,550 acres of wilderness designated as the Black Ridge Canyons Wilderness. At the western boundary of the CCNCA, 5,200 acres stretch into eastern Utah.

The approved Colorado Canyons NCA RMP is essentially the same as the Proposed Colorado Canyons NCA RMP/Final Environmental Impact Statement (PRMP/FEIS), published on August 6, 2004. No inconsistencies with State or local plans, policies, or programs were identified during the Governor's consistency review of the PRMP/FEIS. There were no protests. As a result, only minor editorial modifications were made in preparing the RMP/ROD.

• An errata sheet is included with the RMP/ROD that identifies the location of the corrections in the PRMP/FEIS.

Raul Morales,
Manager, Colorado Canyons National Conservation Area.

[FR Doc. 04-24421 Filed 11-8-04; 8:45 am]

BILLING CODE 4310-JB-P